SURFACE TRANSPORTATION BOARD

[Docket No. FD 36601]

Great Basin and Northern Railroad—Change in Operators Exemption—in Elko and White Pine Counties, Nev.

Great Basin and Northern Railroad (Great Basin), a Class III rail carrier, has filed a verified notice of exemption pursuant to 49 CFR 1150.41 to assume operations over 127 miles of rail line between milepost 0.0 at or near Cobre, Nev., and milepost 127.0 at or near McGill Junction in White Pine County, Nev. (the Line).¹ The Line is owned by the City of Ely (the City) and the Nevada Northern Railway Foundation (the Foundation) and currently is operated by S&S Shortline Leasing, LLC (S&S). Great Basin states that it has recently reached an agreement with the City and the Foundation to replace S&S as the operator over the Line, and that S&S has agreed to cooperate in this change.

¹ Great Basin states the STB previously authorized S&S Shortline Leasing, LLC, to operate the Line in S&S Shortline Leasing, LLC—Operation Exemption—City of Ely, Nev., FD 35284 (STB served Aug. 14, 2009).

Great Basin states that it currently possesses Board authorization to operate a connecting line extending from milepost 127.0 to milepost 146.1 at or near Keystone, Nev., and two branch lines connecting to that line segment. See Great Basin & N. R.R.—Change in Operators Exemption—City of Ely, FD 34506 (STB served June 7, 2004); Great Basin & N. R.R.—Change in Operators Exemption—City of Ely, FD 36549 (STB served Nov. 27, 2020).

Great Basin certifies that the proposed transaction does not involve a provision or agreement that may limit future interchange with a third-party connecting carrier. Great Basin also certifies that its projected revenues as a result of the transaction will not result in the creation of a Class I or Class II rail carrier and will not exceed $5 million.

Under 49 CFR 1150.42(b), a change in operator requires that notice be given to shippers. Great Basin states, however, that there are no customers on the Line.

The transaction may be consummated on or after April 28, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than April 21, 2022 (at least seven days before the exemption becomes effective).

All pleadings, referring to Docket No. FD 36601, should be filed with the Surface Transportation Board via e-filing on the Board's website. In addition, a copy of each pleading must be served on Great Basin's representative, Jeffrey O. Moreno, Thompson Hine LLP, 1919 M Street NW, Suite 700, Washington, DC 20036.

According to Great Basin, this action is categorically excluded from environmental review under 49 CFR 1105.6(c) and from historic preservation reporting requirements under 49 CFR 1105.8(b).

Board decisions and notices are available at www.stb.gov.

Decided: April 11, 2022.
By the Board, Scott M. Zimmerman, Acting Director, Office of Proceedings.
Kenyatta Clay,
Clearance Credit.

[FR Doc. 2022-08004 Filed 4-13-22; 8:45 am]

BILLING CODE 4915-01-P